NATIONAL TRANSPORTATION SAFETY BOARD

Sunshine Act Meeting

NATIONAL TRANSPORTATION SAFETY BOARD

TIME AND DATE: 9:30 a.m., Tuesday, February 8, 2000.

PLACE: NTSB Board Room, 5th Floor, 490 L'Enfant Plaza, SW, Washington, DC 20594.

STATUS: Open to the Public.

MATTERS TO BE CONSIDERED: “Presentation on the NTSB International Aviation Safety Program.”

NEWS MEDIA CONTACT: Telephone: (202) 314-6100.

Individuals requesting specific accommodation should contact Mrs. Barbara Bush at (202) 314-6220 by Monday, February 7, 2000.

FOR MORE INFORMATION CONTACT: Rhonda Underwood (202) 314-6065.

Dated: January 28, 2000.
Rhonda Underwood,
Federal Register Liaison Officer.

[FR Doc. 00-2288 Filed 1-28-00; 3:06 p.m.]

BILLING CODE 7533-01-M